DEPARTMENT OF LABOR

Occupational Safety and Health Administration

29 CFR Part 1926

[Docket No. OSHA-2007-0066]

RIN 1218-AC01

Cranes and Derricks in Construction; Approval of Information Collection Requirements

AGENCY: Occupational Safety and Health Administration (OSHA), Department of Labor.

ACTION: Final rule; notice of the Office of Management and Budget's (OMB) approval of information collection requirements.

SUMMARY: On August 9, 2010, OSHA published a final rule revising the Cranes and Derricks Standard and related sections of the Construction Standard to update and specify industry work practices necessary to protect employees during the use of cranes and derricks in construction. That final standard also addressed advances in the designs of cranes and derricks, related hazards, and the qualifications of employees needed to operate them safely. Those requirements contained information collection requirements for which approval was needed from the Office of Management and Budget. This document announces that OMB has approved those collection of information requirements and makes the appropriate regulatory change to reflect that approval. The OMB approval number is 1218-0261.

DATES: Effective November 8, 2010.

FOR FURTHER INFORMATION CONTACT: Todd Owen, OSHA, Directorate of Standards and Guidance, Room N-3609, U.S. Department of Labor, 200 Constitution Avenue, NW., Washington, DC 20210; telephone (202) 693-2222.

SUPPLEMENTARY INFORMATION: OSHA published a final rule for the Cranes and Derricks in Construction standard on August 9, 2010 (75 FR 47905-48177), after determining that hazards related to cranes and derricks used in construction pose a significant risk of injury or death to employees in the workplace. These requirements are necessary to provide protection from these hazards. The final rule becomes effective on November 8, 2010. As required by the Paperwork Reduction Act of 1995 (PRA-95) (44 U.S.C. 3501-3520), the Federal Register notice for the Cranes and Derricks in Construction final rule states that employers do not have to comply with the collection of information requirements until OMB approves those collection of information requirements and the Department of Labor publishes a notice in the Federal Register announcing this approval and the control number assigned by OMB to the Cranes and Derricks in Construction's collection of information requirements. Under 5 CFR 1320.5(b), an agency may not conduct or sponsor a collection of information unless: (1) The collection of information displays a current valid OMB control number and (2) the agency informs members of the public required to respond to the collection of information that they are not required to do so unless the agency displays a currently valid OMB control number for the collection of information.

On August 9, 2010, the Department of Labor submitted the Cranes and Derricks in Construction information collection request for the final rule to OMB for approval in accordance with PRA-95. On November 1, 2010, OMB approved the collections of information contained in the final rule and assigned these collections of information OMB Control Number 1218-0261, titled “Cranes and Derricks in Construction (29 CFR part 1926, subpart CC).” The approval for collecting the information expires on November 30, 2013.

The final Cranes and Derricks standard imposes new information collection requirements for purposes of PRA-95. These requirements impose a duty to produce and maintain records on employers that implement controls and take other measures to protect workers from hazards related to cranes and derricks used in construction. Accordingly, construction businesses with employees who operate or work in the vicinity of cranes and derricks must have, as applicable, the following documents on file and available at the job site: Equipment ratings, employee training records, written authorizations from qualified individuals, and qualification program audits. During an inspection, OSHA will have access to the records to determine compliance under conditions specified by the standard. An employer's failure to generate and disclose the information required in this standard will affect significantly the Agency's effort to control and reduce injuries and fatalities related to the use of cranes and derricks in construction.

The table below identifies the new collections of information contained in the final rule.

Collection of Information Requirements in the Final Standard
29 CFR 1926.1402(c)(2) | 29 CFR 1926.1427(c)(1)(ii).
29 CFR 1926.1403(b) and 1926.1406(b) | 29 CFR 1926.1427(c)(2)(i).
29 CFR 1926.1404(f)(2) | 29 CFR 1926.1427(c)(5)(ii) and (c)(5)(iv).
29 CFR 1926.1404(j) | 29 CFR 1926.1427(c)(5)(iii).
29 CFR 1926.1404(m)(1)(i) | 29 CFR 1926.1427(h)(1)(i) and (ii).
29 CFR 1926.1407(a)(1)(i), (a)(3)(i), (c), (d), (e), (f), and 1926.1409 | 29 CFR 1926.1428(a)(1), (a)(2), and (a)(3).
29 CFR 1926.1407(g) and 1926.1409 | 29 CFR 1926.1428(b).
29 CFR 1926.1408 Table A and 1926.1409(b) | 29 CFR 1926.1431(o)(3)(i).
29 CFR 1926.1408(a)(2)(i), (2)(iii)(A), (c), (d)(1), (e), and 1926.1409 | 29 CFR 1926.1431(p)(4)(i).
29 CFR 1926.1410(c)(1) | 29 CFR 1926.1431(r)(3)(i).
29 CFR 1926.1410(d) | 29 CFR 1926.1431(s)(3)(i).
29 CFR 1926.1410(e) | 29 CFR 1926.1433(e).
29 CFR 1926.1410(f) | 29 CFR 1926.1434(a)(1)(i), (a)(1)(ii), (a)(3), 1926.1404(m)(1)(ii), 1926.1441(b)(2)(i)(B).
29 CFR 1926.1410(j) | 29 CFR 1926.1434(a)(2)(i), (a)(3), (a)(4), (a)(5), (b), and 1926.1441(b)(2)(i)(B).
29 CFR 1926.1411 Table T | 29 CFR 1926.1435(b)(3).
29 CFR 1926.1412(a)(1)(i) | 29 CFR 1926.1435(b)(7)(ii).
29 CFR 1926.1412(b) (1)(ii)(A) | 29 CFR 1926.1435(c)(5).
29 CFR 1926.1412(c)(2)(i) | 29 CFR 1926.1435(f)(3)(ii).
29 CFR 1926.1412(e)(3)(i), (e)(2)(i), (e)(3)(ii), (f)(6), (g)(3),(h), 1926.1413(b)(4), (c)(3)(ii), and 1926.1437(h) | 29 CFR 1926.1436(g)(4).
29 CFR 1926.1412(f)(7), 1926.1413(c)(4), and 1926.1437(h) | 29 CFR 1926.1437(c)(2)(ii).
29 CFR 1926.1413(a)(4)(ii)(A) | 29 CFR 1926.1437(h)(6).
29 CFR 1926.1414(e)(2)(iii) | 29 CFR 1926.1437(m)(4).
29 CFR 1926.1414(e)(3)(iii) | 29 CFR 1926.1437(n)(2).
29 CFR 1926.1417(b)(1) and (b)(2) | 29 CFR 1926.1437(n)(5)(v).
29 CFR 1926.1417(b)(3) | 29 CFR 1926.1437(n)(6)(i).
29 CFR 1926.1417(j)(1) | 29 CFR 1926.1441(b)(2)(i)(A).
29 CFR 1926.1417(j)(2) | 29 CFR 1926.1441(c)(2)(i).
29 CFR 1926.1423(j)(2) | 29 CFR 1926.1441(c)(2)(ii).
29 CFR 1926.1424(a)(2)(ii) | 29 CFR 1926.1441(c)(2)(iii).
29 CFR 1926.1424(a)(3)(i) and (ii) | 29 CFR 1926.1441(c)(3)(ii).
29 CFR 1926.1427(a) and (e)(1).

Affected Public: Business or other for-profits.

Number of Respondents: 267,032 firms.

Frequency: On occasion (for most of the information collection requirements; determined by the use of cranes and derricks and employee training and certification); annually (for equipment inspections).

Average Time per Response: Varies from 30 seconds (communicate employee's location to operator) to 1.5 hours (develop and document written assembly and disassembly procedures).

Estimated Total Burden Hours: 403,413 hours.

Estimated Costs (Operation and Maintenance): $2.3 million.

Authority and Signature

David Michaels, PhD, MPH, Assistant Secretary of Labor for Occupational Safety and Health, directed the preparation of this notice. The authority for this notice is the Paperwork Reduction Act of 1995 (44 U.S.C. 3506 et seq.) and Secretary of Labor's Order No. 4-2010 (75 FR 55355).

Signed at Washington, DC, this 1st day of November 2010.
David Michaels,
Assistant Secretary of Labor for Occupational Safety and Health.

For the reasons stated in the preamble in this notice, the Occupational Safety and Health Administration amends 29 CFR part 1926 to read as follows:

PART 1926—[AMENDED]

Subpart A—General

1. Revise the authority citation for subpart A to read as follows:

Authority: Sec. 3704, Contract Work Hours and Safety Standards Act (40 U.S.C. 3701 et al.); secs. 4, 6, and 8, Occupational Safety and Health Act of 1970 (29 U.S.C. 653, 655, 657); Secretary of Labor's Order No. 12-71 (36 FR 8754), 8-76 (41 FR 25059), 9-83 (48 FR 35736), 6-96 (62 FR 111), 5-2007 (72 FR 31160), and 4-2010 (75 FR 55355), as applicable; and 29 CFR part 1911.

2. Amend § 1926.5 by adding to the table, in the proper numerical sequence, the following citations and OMB control number to read as follows:

§ 1926.5 OMB control numbers under the Paperwork Reduction Act.

* * * * *

29 CFR citation | OMB control No.
* * * * *
1926.1402 | 1218-0261
1926.1403 | 1218-0261
1926.1404 | 1218-0261
1926.1406 | 1218-0261
1926.1407 | 1218-0261
1926.1408 | 1218-0261
1926.1409 | 1218-0261
1926.1410 | 1218-0261
1926.1411 | 1218-0261
1926.1412 | 1218-0261
1926.1413 | 1218-0261
1926.1414 | 1218-0261
1926.1417 | 1218-0261
1926.1423 | 1218-0261
1926.1424 | 1218-0261
1926.1427 | 1218-0261
1926.1428 | 1218-0261
1926.1431 | 1218-0261
1926.1433 | 1218-0261
1926.1434 | 1218-0261
1926.1435 | 1218-0261
1926.1436 | 1218-0261
1926.1437 | 1218-0261
1926.1441 | 1218-0261

[FR Doc. 2010-27947 Filed 11-5-10; 8:45 am]

BILLING CODE 4510-26-P